DEPARTMENT OF THE INTERIOR

Fish and Wildlife Service

50 CFR Part 17

[Docket Nos. FWS-HQ-ES-2013-0073 and FWS-R2-ES-2013-0056; FXES11130900000C2-134-FF09E32000]

RINs 1018-AY00 and 1018-AY46

Endangered and Threatened Wildlife and Plants; Extending the Public Comment Periods and Rescheduling Public Hearings Pertaining to the Gray Wolf (Canis lupus) and the Mexican Wolf (Canis lupus baileyi)

AGENCY: Fish and Wildlife Service, Interior.

ACTION: Proposed rules; extension of public comment periods, and announcement of public hearings.

SUMMARY: We, the U.S. Fish and Wildlife Service (Service), recently published two proposed rules. One rule proposes to list the Mexican wolf (Canis lupus baileyi) as an endangered subspecies and to delist the gray wolf elsewhere, and the other proposes to revise the Nonessential Experimental Population of the Mexican Wolf. On September 5 and October 2, 2013, we announced public hearings on the proposed rules. The September 5 notices also extended the public comment period for the proposed rules to October 28, 2013. Following delays caused by the Federal Government lapse in appropriations, the Service is announcing rescheduled dates for the remainder of a series of public hearings on the proposed rules. To allow these hearings to take place within the public comment period on the proposed rules, we now extend the public comment period for the proposed rules to December 17, 2013. Comments previously submitted need not be resubmitted and will be fully considered in preparation of the final rules. We also announce the scheduling of a public information meeting and an additional public hearing in Pinetop, Arizona.

DATES: Written Comments: The public comment period on the proposal to list the Mexican wolf (Canis lupus baileyi) as an endangered subspecies and to delist the gray wolf elsewhere and the proposal to revise the nonessential experimental population of the Mexican wolf are extended to December 17, 2013. Please note comments submitted electronically using the Federal eRulemaking Portal (see ADDRESSES section, below) must be received by 11:59 p.m. Eastern Time on the closing date. If you are submitting your comments by hard copy, please mail them by December 17, 2013, to ensure that we receive them in time to give them full consideration.

Public Information Meeting: We will hold a public information meeting on December 3, 2013, from 3:30 p.m. to 5 p.m., in Pinetop, AZ.

Public Hearings: We will hold public hearings on the following dates:

• November 19, 2013, from 6 p.m. to 8:30 p.m., in Denver, CO.

• November 20, 2013, from 6 p.m. to 9 p.m., in Albuquerque, NM.

• November 22, 2013, from 6 p.m. to 8:30 p.m., in Sacramento, CA.

• December 3, 2013, from 6 p.m. to 8:30 p.m., in Pinetop, AZ.

ADDRESSES: Written Comments: You may submit comments by one of the following methods:

(1) Electronically: Go to the Federal eRulemaking Portal: http://www.regulations.gov. Search for the corresponding docket number for the rulemaking. Submissions of electronic comments on our proposal to list the Mexican wolf (Canis lupus baileyi) as an endangered subspecies and to delist the gray wolf elsewhere, which published in the Federal Register on June 13, 2013, should be submitted to Docket No. FWS-HQ-ES-2013-0073. Submissions of electronic comments on our Proposed Revision to the Nonessential Experimental Population of the Mexican Wolf, which also published in the Federal Register on June 13, 2013, should be submitted to Docket No. FWS-R2-ES-2013-0056. Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: [insert corresponding docket number]; Division of Policy and Directives Management; U.S. Fish and Wildlife Service; 4401 N. Fairfax Drive, MS 2042-PDM; Arlington, VA 22203.

(3) At the Pinetop, Arizona public information meeting or the public hearings: Written comments will be accepted by Service personnel at the Pinetop, Arizona public information meeting or any of the scheduled public hearings.

We will post all comments we receive on http://www.regulations.gov. This generally means that we will post any personal information you provide us (see the Public Comments section below for more information).

Public Information Meeting: We will hold the public information meeting at the Hon-Dah Conference Center, 777 Highway 260, Pinetop, AZ 85935 (3 miles outside of Pinetop at the Junction of Hwy 260 and Hwy 73); (928) 369-7625.

Public Hearings: Public hearings will be held at the following locations:

• Paramount Theatre, 1621 Glenarm Place, Denver, CO 80202; (303) 405-1245.

• Embassy Suites, Sandia Room, 1000 Woodward Place NE., Albuquerque, NM 87102; (505) 245-7100.

• Marriot Courtyard Sacramento Cal Expo, Golden State Ballroom, 1782 Tribute Road, Sacramento, CA 95815; (916) 929-7900.

• Hon-Dah Conference Center, 777 Highway 260, Pinetop, AZ 85935 (3 miles outside of Pinetop at the Junction of Hwy 260 and Hwy 73); (928) 369-7625.

FOR FURTHER INFORMATION CONTACT: For information concerning the proposal to list the Mexican wolf (Canis lupus baileyi) as an endangered subspecies and to delist the gray wolf elsewhere, contact the Headquarters Office, Ecological Services; telephone (703) 358-2171; facsimile (703) 358-1735. Direct all questions or requests for additional information to: Gray Wolf Questions, U.S. Fish and Wildlife Service, Headquarters Office, Ecological Services, 4401 North Fairfax Drive, Room 420, Arlington, VA 22203. Individuals who are hearing-impaired or speech-impaired may call the Federal Relay Service at 1-800-877-8337 for TTY assistance.

For information concerning the proposal to revise the nonessential experimental population of the Mexican wolf, contact the Mexican Wolf Recovery Program, U.S. Fish and Wildlife Service, New Mexico Ecological Services Office, 2105 Osuna Road NE., Albuquerque, NM 87133; telephone 505-761-4704; facsimile 505-346-2542. Individuals who are hearing-impaired or speech-impaired may call the Federal Relay Service at 1-800-877-8337 for TTY assistance.

SUPPLEMENTARY INFORMATION:

Public Comments

To allow rescheduled public hearings to take place within the public comment period, we are extending the public comment period to December 17, 2013, on our proposal to list the Mexican wolf (Canis lupus baileyi) as an endangered subspecies and to delist the gray wolf elsewhere, and on our proposed revision to the nonessential experimental population of the Mexican wolf. These proposals published in the Federal Register on June 13, 2013 (78 FR 35664 and 78 FR 35719). The proposals are available online at http://www.regulations.gov under Docket No. FWS-HQ-ES-2013-0073 and FWS-R2-ES-2013-0056 respectively and at http://www.gpo.gov/fdsys/pkg/FR-2013-06-13/pdf/2013-13982.pdf#page=2 and http://www.gpo.gov/fdsys/pkg/FR-2013-06-13/pdf/2013-13977.pdf respectively.

For the types of information for which we are seeking public comments, please see the Public Comments or Information Requested section of the June 13, 2013, proposed rules (78 FR 35664 and 78 FR 35719).

Please note that submissions merely stating support for or opposition to the actions under consideration without providing supporting information, although noted, will not be considered in making a determination. You may submit your comments and materials by one of the methods listed in ADDRESSES. We request that you send comments only by the methods described in ADDRESSES. Verbal testimony may also be presented during the public hearings (see DATES and ADDRESSES sections).

We will post your entire comment—including your personal identifying information—on http://www.regulations.gov. If you provide personal identifying information, such as your street address, phone number, or email address, you may request at the top of your document that we withhold this information from public review. However, we cannot guarantee that we will be able to do so.

Comments and materials we receive, as well as some of the supporting documentation we used in preparing the proposed rules, will be available for public inspection on http://www.regulations.gov at the corresponding docket number (see ADDRESSES), or by appointment, during normal business hours at the corresponding office location (see FOR FURTHER INFORMATION CONTACT).

We intend that any final actions resulting from the proposed rules will be based on the best scientific and commercial data available and be as accurate and as effective as possible. Therefore, we request comments or information from other concerned governmental agencies, tribes, the scientific community, industry, or other interested parties concerning the proposed rules. We request that you make your comments as specific as possible and explain the basis for them. In addition, please include sufficient information with your comments to allow us to authenticate any scientific or commercial data you reference or provide.

Our final determinations concerning the proposed actions will take into consideration all written comments we receive during all comment periods, comments from peer reviewers, and comments received during the public hearings. The comments will be included in the public record for the corresponding rulemaking, and we will fully consider them in the preparation of our final determination.

If you previously submitted comments or information on the proposed rules, please do not resubmit them. We will incorporate them into the corresponding public record as part of this comment period, and will fully consider them in the preparation of our final determination.

Public Hearings

Following delays caused by the Federal Government lapse in appropriations, the Service is announcing rescheduled dates for the remainder of a series of public hearings on the proposed rules. We are also adding a public information meeting and an additional public hearing in Pinetop, AZ. In total, we are holding one public information meeting and four public hearings on the dates listed in the DATES section at the locations listed in the ADDRESSES section.

The November 19, 2013, public hearing in Denver, CO, and the November 22, 2013, public hearing in Sacramento, CA, will address the June 13, 2013 (78 FR 35664), proposal to list the Mexican wolf as an endangered subspecies and to delist the gray wolf elsewhere. The November 20, 2013, public hearing in Albuquerque, NM and the December 3, 2013, public hearing in Pinetop, AZ, will address both the June 13, 2013 (78 FR 35664), proposal to list the Mexican wolf as an endangered subspecies and to delist the gray wolf elsewhere, as well as the June 13, 2013 (78 FR 35719), proposed revision to the nonessential experimental population of the Mexican wolf. The December 3, 2013, public information meeting and public hearing in Pinetop, AZ, will focus on the June 13, 2013 (78 FR 35719), proposed revision to the nonessential experimental population of the Mexican wolf, but we will accept verbal testimony (formal, oral comments) or written comments regarding both of the June 13, 2013, proposals (78 FR 35664 and 78 FR 35719).

We are holding the public hearings to provide interested parties an opportunity to present verbal testimony (formal, oral comments) or written comments regarding the proposals. A public hearing is a forum for accepting formal verbal testimony. The public information meeting in Pinetop, Arizona will provide the opportunity for interaction with Service staff, who will be available to provide information and address questions on the proposed rule, however, verbal testimony will only be accepted at the public hearings. Anyone wishing to testify verbally at the public hearings for the record is encouraged to also provide a written copy of their statement to us at the hearings. In the event of a large attendance, the time allotted for verbal testimony may be limited. Speakers can sign up at the hearings if they desire to make a verbal statement. Oral and written statements receive equal consideration. There are no limits on the length of written comments submitted to us.

Persons with disabilities needing reasonable accommodations to participate in the Denver, CO, or Sacramento, CA, public hearings should contact the Headquarters Office (see FOR FURTHER INFORMATION CONTACT). Persons with disabilities needing reasonable accommodations to participate in the Albuquerque, NM, or Pinetop, AZ, public hearings should contact the Mexican Wolf Recovery Program (see FOR FURTHER INFORMATION CONTACT). Reasonable accommodation requests should be received at least 3 business days prior to the hearing to help ensure availability; at least 2 weeks prior notice is requested for American-sign-language or English-as-a-second-language interpreter needs.

Authors

The primary authors of this notice are the Ecological Services staff of the Headquarters Office, U.S. Fish and Wildlife Service.

Authority

The authority for this action is the Endangered Species Act of 1973, as amended (16 U.S.C. 1531 et seq.).

Dated: October 23, 2013.
Daniel M. Ashe,
Director, U.S. Fish and Wildlife Service.

[FR Doc. 2013-25390 Filed 10-25-13; 8:45 am]

BILLING CODE 4310-55-P